DEPARTMENT OF COMMERCE

National Oceanic and Atmospheric Administration

[RTID 0648-XE197]

Pacific Island Fisheries; Western Pacific Stock Assessment Review; Public Meeting

AGENCY: National Marine Fisheries Service (NMFS), National Oceanic and Atmospheric Administration (NOAA), Commerce.

ACTION: Notice; public meeting.

SUMMARY: The Western Pacific Fishery Management Council (Council) and NMFS will convene a Western Pacific Stock Assessment Review (WPSAR) of the main Hawaiian Islands Aprion virescens (locally known as uku or gray/green jobfish) stock assessment update.

DATES: The WPSAR meeting will be held September 9-10, 2024 from 9 a.m. to 4 p.m. Hawaii Standard Time (HST). See SUPPLEMENTARY INFORMATION for meeting dates and times and the daily agenda.

ADDRESSES: The meeting will be open to the public and held at the NOAA Honolulu Service Center at Pier 38, 1139 N. Nimitz Hwy, Suite 220, Honolulu, HI 96817. Audio and visual portions for all of the web conferences can be accessed at: https://wprfmc.webex.com/wprfmc/j.php?MTID=m984f90622bc0a35cd0ffb038eb5103a5. Webinar number: 2633 952 7361. Webinar password: ukuWPSAR0909mtg.

FOR FURTHER INFORMATION CONTACT: T. Todd Jones, Director, Pacific Islands Fisheries Science Center (PIFSC) Fisheries Research and Monitoring Division (FRMD), telephone: (808) 725-5713, or todd.jones@noaa.gov.

SUPPLEMENTARY INFORMATION: The NMFS PIFSC developed a single-species stock assessment update of the gray jobfish (uku, Aprion virescens) in the main Hawaiian Islands. PIFSC previously conducted a stock assessment for uku in 2020 using the Stock Synthesis (v. 3.30) framework to integrate catch per unit effort indices, size frequency, diver survey, and catch data into a single age-structured model. PIFSC used this integrated model to estimate biomass and stock status through time, and evaluated stock status against the maximum sustainable yield based reference points described in the Council's Fishery Ecosystem Plan for the Hawaii Archipelago. The 2024 assessment update will provide new information to inform management, including updates on biomass and fishing mortality relative to status determination thresholds to inform recommendations of allowable biological catch and annual catch limits. Consistent with National Standard 2 of the Magnuson-Stevens Fishery Conservation and Management Act, the WPSAR Policy requires a review of the application of recent data, on an as-needed basis, that will be used in the benchmark stock assessment update.

Meeting Agenda for WPSAR Review

The agenda order may change, and the meeting will run as late as necessary to complete scheduled business.

Day 1, Monday, September 9 (9 a.m.-4 p.m., HST)

1. Introductions

2. Review objectives and terms of reference

3. Presentation of stock assessment updates

4. Summary of comments and analysis during desktop phase

5. Questions to presenters

6. Public Comment

Tuesday, September 10, 2024 (9 a.m.-4 p.m., HST)

7. Panel presentation on the review results and recommendations

8. Questions to reviewers

9. Public comment

10. Closing comments and adjourn

Special Accommodations

This meeting is physically accessible to people with disabilities. Please direct requests for sign language interpretation or other auxiliary aids to T. Todd Jones, Director, PIFSC FRMD, telephone: (808) 725-5713, or todd.jones@noaa.gov at least 5 days prior to the meeting date.

Authority: 16 U.S.C. 1801 et seq.

Dated: August 15, 2024.
Lindsay Fullenkamp,
Acting Director, Office of Sustainable Fisheries, National Marine Fisheries Service.

[FR Doc. 2024-18611 Filed 8-20-24; 8:45 am]

BILLING CODE 3510-22-P